DEPARTMENT OF ENERGY

Federal Energy Regulatory Commission

[Project No. 2322-069]

Brookfield White Pine Hydro LLC; Notice of Denial of Water Quality Certification

On January 31, 2020, Brookfield White Pine Hydro LLC (Brookfield) filed an application for a new license for the Shawmut Hydroelectric Project (project) in the above captioned docket. Brookfield filed with the Maine Department of Environmental Protection (Maine DEP) a request for water quality certification for the project under section 401(a)(1) of the Clean Water Act on October 18, 2021. On October 12, 2022, the Maine DEP denied certification for the project. Pursuant to 40 CFR 121.8, we are providing notice that Maine DEP's denial satisfies the requirements of 40 CFR 121.7(e).

Dated: November 22, 2022.
Kimberly D. Bose,
Secretary.

[FR Doc. 2022-25986 Filed 11-28-22; 8:45 am]

BILLING CODE 6717-01-P